DEPARTMENT OF TRANSPORTATION

Federal Aviation Administration

Notice of Intent To Rule on Change in Use of Aeronautical Property at Bowling Green—Warren County Regional Airport, Bowling Green, KY

AGENCY: Federal Aviation Administration (FAA), DOT.

ACTION: Request for public comment.

SUMMARY: The Federal Aviation Administration is requesting public comment on request by the Bowling Green—Warren County Airport Board to change a portion of airport property from aeronautical to non-aeronautical use at the Bowling Green—Warren County Regional Airport, Bowling Green, Kentucky. The request consists approximately of 4.66 acres of fee simple release. This action is taken under the provisions of Section 125 of the Wendell H. Ford Aviation Investment Reform Act for the 21st Century (AIR 21).

DATES: Comments must be received on or before September 22, 2011.

ADDRESSES: Documents are available for review at the Bowling Green—Warren County Regional Airport, 1000 Woodhurst Dr., Bowling Green, KY 42103 and the FAA Memphis Airports District Office, 2862 Business Park Drive, Building G, Memphis, TN 38118. Written comments on the Sponsor's request must be delivered or mailed to: Mr. Phillip J. Braden, Manager, Memphis Airports District Office, 2862 Business Park Drive, Building G, Memphis, TN 38118.

In addition, a copy of any comments submitted to the FAA must be mailed or delivered to Mr. Rob Barnett, Airport Manager, Bowling Green—Warren County Regional Airport, 1000 Woodhurst Dr., Bowling Green, KY 42103.

FOR FURTHER INFORMATION CONTACT: Mr. Tommy L. Dupree, Team Lead/Civil Engineer, Federal Aviation Administration, Memphis Airports District Office, 2862 Business Park Drive, Building G, Memphis, TN 38118. The application may be reviewed in person at this same location, by appointment.

SUPPLEMENTARY INFORMATION: The FAA proposes to rule and invites public comment on the request to release property at the Bowling Green—Warren County Regional Airport, 1000 Woodhurst Dr., Bowling Green, KY 42103. Under the provisions of AIR 21 (49 U.S.C. 47107(h)(2)).

On August 11, 2011, the FAA determined that the request to release property at Bowling Green—Warren County Regional Airport meets the procedural requirements of the Federal Aviation Administration. The FAA may approve the request, in whole or in part, no later than September 22, 2011.

The following is a brief overview of the request:

The Bowling Green—Warren County Airport Authority is proposing the release of approximately 4.66 acres located at the northwest corner of Airway Court and Searcy Way and along the west side of Airway Court; and as contained in Parcels 052A-03-021 and 052A-03-037. The property address is listed as 2325 Airway Court, Bowling Green, KY 42103. This release is for the sale of said property to KYCORE, LLC for commercial development.

Any person may inspect, by appointment, the request in person at the FAA office listed above under FOR FURTHER INFORMATION CONTACT.

Issued in Memphis, TN, on August 11, 2011.
Phillip J. Braden,
Manager, Memphis Airports District Office, Southern Region.

[FR Doc. 2011-21426 Filed 8-22-11; 8:45 am]

BILLING CODE P